SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: November 1-30, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and 806.22(f) for the time period specified above:

Approvals by Rule Issued Under 18 CFR 806.22(e)

1. Sunoco Pipeline, L.P., ABR-201711001, Penn Township, Huntingdon County, Pa.; Consumptive Use of Up to 0.2000 mgd; Approval Date: November 2, 2017.

Approvals by Rule Issued Under 18 CFR 806.22(f)

1. Chesapeake Appalachia, LLC, Pad ID: McEnaney, ABR-201304001.R1, Terry Township, Bradford County, Pa.; Consumptive Use of Up to 7.5000 mgd; Approval Date: November 6, 2017.

2. Chesapeake Appalachia, LLC, Pad ID: Sharpe, ABR-201304004.R1, Windham Township, Wyoming County, Pa.; Consumptive Use of Up to 7.5000 mgd; Approval Date: November 6, 2017.

3. Chesapeake Appalachia, LLC, Pad ID: Poepperling, ABR-201304017.R1, North Branch Township, Wyoming County, Pa.; Consumptive Use of Up to 7.5000 mgd; Approval Date: November 6, 2017.

4. Cabot Oil & Gas Corporation, Pad ID: DeluciaR P1, ABR-201211002.R1, Harford Township, Susquehanna County, Pa.; Consumptive Use of Up to 5.0000 mgd; Approval Date: November 6, 2017.

5. Chesapeake Appalachia, LLC, Pad ID: Lucy, ABR-201304015.R1, Monroe Township, Bradford County, Pa.; Consumptive Use of Up to 7.5000 mgd; Approval Date: November 13, 2017.

6. Chief Oil & Gas, LLC, Pad ID: P. Cullen A Drilling Pad, ABR-201304019.R1, Overton Township, Bradford County and Forks Township, Sullivan County, Pa.; Consumptive Use of Up to 2.0000 mgd; Approval Date: November 13, 2017.

7. SWN Production Company, LLC, Pad ID: HARRIS PAD, ABR-201211015.R1, Harford and New Milford Townships, Susquehanna County, Pa.; Consumptive Use of Up to 4.9990 mgd; Approval Date: November 13, 2017.

8. Chief Oil & Gas, LLC, Pad ID: Runabuck Drilling Pad, ABR-201305008.R1, Elkland Township, Sullivan County, Pa.; Consumptive Use of Up to 2.0000 mgd; Approval Date: November 14, 2017.

9. SWN Production Company, LLC, Pad ID: RACINE PAD, ABR-201212003.R1, New Milford Township, Susquehanna County, Pa.; Consumptive Use of Up to 4.9990 mgd; Approval Date: November 19, 2017.

10. SWN Production Company, LLC, Pad ID: PLATUS PAD, ABR-201212004.R1, New Milford Township, Susquehanna County, Pa.; Consumptive Use of Up to 4.9990 mgd; Approval Date: November 19, 2017.

11. SWN Production Company, LLC, Pad ID: SWEENEY PAD, ABR-201212005.R1, New Milford Township, Susquehanna County, Pa.; Consumptive Use of Up to 4.9990 mgd; Approval Date: November 19, 2017.

12. SWN Production Company, LLC, Pad ID: CONKLIN EAST, ABR-201212009.R1, New Milford Township, Susquehanna County, Pa.; Consumptive Use of Up to 4.9990 mgd; Approval Date: November 19, 2017.

13. SWN Production Company, LLC, Pad ID: TINGLEY PAD, ABR-201212010.R1, New Milford Township, Susquehanna County, Pa.; Consumptive Use of Up to 4.9990 mgd; Approval Date: November 19, 2017.

14. SWN Production Company, LLC, Pad ID: WALKER WEST PAD 14, ABR-201301010.R1, Jackson Township, Susquehanna County, Pa.; Consumptive Use of Up to 4.9990 mgd; Approval Date: November 19, 2017.

15. Chief Oil & Gas, LLC, Pad ID: Hanlon, ABR-201303003.R1, McNett Township, Lycoming County, and Canton Township, Bradford County, Pa.; Consumptive Use of Up to 2.1000 mgd; Approval Date: November 20, 2017.

16. Chesapeake Appalachia, LLC, Pad ID: Hooker, ABR-201305001.R1, Auburn Township, Susquehanna County, Pa.; Consumptive Use of Up to 7.5000 mgd; Approval Date: November 21, 2017.

17. Chesapeake Appalachia, LLC, Pad ID: Visneski, ABR-201305002.R1, Mehoopany Township, Wyoming County, Pa.; Consumptive Use of Up to 7.5000 mgd; Approval Date: November 21, 2017.

18. Chesapeake Appalachia, LLC, Pad ID: ODowd, ABR-201305006.R1, Auburn Township, Susquehanna County, Pa.; Consumptive Use of Up to 7.5000 mgd; Approval Date: November 21, 2017.

19. Pennsylvania General Energy, LLC, Pad ID: COP Tract 596 Pad B, ABR-201304007.R1, Liberty Township, Tioga County, Pa.; Consumptive Use of Up to 4.5000 mgd; Approval Date: November 29, 2017.

20. SWN Production Company, LLC, Pad ID: TI-01 Mase Monte, ABR-201711002, Liberty Township, Tioga County, Pa.; Consumptive Use of Up to 4.9990 mgd; Approval Date: November 29, 2017.

Authority: Public Law 91-575, 84 Stat. 1509 et seq., 18 CFR parts 806, 807, and 808.

Dated: February 6, 2018.
Stephanie L. Richardson,
Secretary to the Commission.

[FR Doc. 2018-02697 Filed 2-9-18; 8:45 am]

BILLING CODE 7040-01-P